NUCLEAR REGULATORY COMMISSION

[Docket No. 50-346]

FirstEnergy Nuclear Operating Company, Davis-Besse Nuclear Power Station, Unit 1, Withdrawal of Exemption

1.0 Background

The FirstEnergy Nuclear Operating Company (the licensee) is the holder of Facility Operating License No. NPF-3 which authorizes operation of the Davis-Besse Nuclear Power Station, Unit 1 (DBNPS). The license provides, among other things, that the facility is subject to all rules, regulations, and orders of the Nuclear Regulatory Commission (NRC, the Commission) now or hereafter in effect.

The facility consists of a pressurized-water reactor located in Ottawa County in Ohio.

2.0 Request

Title 10 of the Code of Federal Regulations (10 CFR), part 50, appendix R, subsection III.L.1 requires that alternative or dedicated shutdown capability be able to achieve cold shutdown conditions within 72 hours. The NRC granted an exemption to this requirement by letter dated August 20, 1984, for DBNPS.

In summary, the licensee now concludes that DBNPS meets the requirement and the exemption is no longer required; therefore, the licensee requests that the exemption be withdrawn.

3.0 Evaluation

Two issues caused the licensee to originally request the exemption. They were the ability to depressurize the reactor coolant system and a limitation on cooldown rate. The licensee has recently performed an evaluation and determined that alternate pressurizer spray from the high pressure injection pumps could be used for depressurization and the limit on cooldown rate can be increased. The licensee concluded that DBNPS can now comply with the regulation and the exemption is no longer required.

Based upon the licensee's recent evaluation determining that DBNPS alternative shutdown capability can achieve cold shutdown within 72 hours, the staff concludes that the exemption can be withdrawn.

4.0 Conclusion

Accordingly, the Commission hereby grants FirstEnergy Nuclear Operating Company withdrawal of the exemption from the requirements of CFR part 50, appendix R, subsection III.L.1, granted by letter dated August 20, 1984, for DBNPS.

Pursuant to 10 CFR 51.32, the Commission has determined that the granting of this exemption withdrawal will not have a significant effect on the quality of the human environment (69 FR 28951).

This exemption withdrawal is effective upon issuance.

Dated at Rockville, Maryland, this 24th day of June, 2004.
For the Nuclear Regulatory Commission.
Ledyard B. Marsh,
Director, Division of Licensing Project Management, Office of Nuclear Reactor Regulation.

[FR Doc. 04-15171 Filed 7-2-04; 8:45 am]

BILLING CODE 7590-01-P